ENVIRONMENTAL PROTECTION AGENCY

[FRL-7898-1]

Proposed CERCLA Administrative Cost Recovery Settlement Pursuant to the Comprehensive Environmental Response, Compensation, and Liability Act; Greenberg Salvage Yard, Murphysboro, IL

AGENCY: Environmental Protection Agency (EPA).

ACTION: Notice; request for public comment.

SUMMARY: In accordance with section 122(h) of the Comprehensive Environmental Response, Compensation, and Liability Act, as amended (“CERCLA”), 42 U.S.C. 9622 (h), notice is hereby given of a proposed administrative settlement by consent, pursuant to CERCLA 122(h), 42 U.S.C. 9622(h) concerning Cox Parts & Services, Inc. and Thomas D. Cox Trucking, Inc. and the Greenberg Salvage Yard Site.

The settlement requires that the Settling Parties shall pay to the EPA Hazardous Substance Superfund in eleven monthly installments the principal sum of $13,157 plus interest as defined in the Agreement for Recovery of Past Response Costs. The settlement includes EPA's covenant not to sue the Settling Parties pursuant to 107(a) of CERCLA, 42 U.S.C. 9607(a), to recover Past Response Costs. This covenant not to sue is conditioned upon the satisfactory performance by Settling Parties of their obligations under the Agreement. U.S. EPA is proposing this Agreement because it provides reimbursement to U.S. EPA for part of its past costs at the Greenberg Salvage Yard Site.

For thirty (30) days following the date of publication of this notice, the agency will receive written comments relating to the settlement. The Agency will consider all comments received and may modify or withdraw its consent to the settlement if comments received disclose facts or considerations which indicate that the settlement is inappropriate, improper, or inadequate. The response to any comment received will be available for public inspection at the Superfund Division Record Center, U.S. Environmental Protection Agency, 77 West Jackson Blvd., Chicago, Illinois 60604-3590.

DATES: Comments must be submitted on or before May 12, 2005 pursuant to 122(i) of CERCLA, 42 U.S.C. 9622(i).

ADDRESSES: Comments should be addressed to Virginia Narsete, Public Affairs Specialist, Superfund Division, Emergency Response Branch, Mail Code SE-5J, U.S. Environmental Protection Agency, Region 5, 77 West Jackson Blvd., Chicago, Illinois 60604-3590, and should reference the Greenberg Salvage Yard site, Murphysboro, Illinois. The settlement agreement and additional background information relating to the settlement are available for public inspection at the U.S. Environmental Protection Agency, Region 5, Superfund Division Record Center (address above), or a copy of the AOC may be obtained from Virginia Narsete.

FOR FURTHER INFORMATION CONTACT: Virginia Narsete, Public Affairs Specialist, Superfund Division, Emergency Response Branch, Mail Code SE-5J, U.S. Environmental Protection Agency, Region 5, 77 West Jackson Blvd., Chicago, Illinois 60604-3590 or call (312) 886-4359.

SUPPLEMENTARY INFORMATION: The Greenberg Salvage Yard Superfund Site, encompassing two parcels of approximately 2.34 acres, located in Murphysboro, Jackson County, Illinois is generally designated by the following property description: The Site's northern parcel is bordered to the north by Thomas D. Cox Trucking, Inc., to the east by the American Legion and to the west by private residences. The Site's southern parcel is bordered by a lumber yard and to the east and west by private residences. In response to the release or threatened release of hazardous substances at or from the Site, EPA undertook response actions at the Site pursuant to 104 of CERCLA, 42 U.S.C. 9604. A lead stabilizing agent was mixed with lead-contaminated soil at the Site to treat the soil to below hazardous waste characteristic levels for lead. Then the soil was transported off the site for disposal as non-hazardous waste. A total of 12,050.6 tons of treated/low level contaminated lead soil were disposed of at an off-site disposal facility. The Site was then backfilled with clean soil. The settling parties are: Cox Parts and Services, Inc. and Thomas D. Cox Trucking, Inc. The Settling Parties shall be jointly and severally liable for all obligations imposed upon them under the Agreement for Recovery of Past Response Costs, 122(h)(1) of CERCLA 42 U.S.C. 9622(h)(1). Based upon the information submitted by the parties, EPA determined that each Settling Party has limited financial ability to pay for response costs incurred at the Site. However, the Site property was owned by Cox Parts and Services, Inc. and was sold after the removal action was completed. The settlement represents the amount of profit received by Cox Parts and Services, Inc. from the sale of the property. Settling Parties shall pay to the EPA Hazardous Substance Superfund the principal sum of $13,157 plus interest as defined in the Agreement for Recovery of Past Response Costs. Payment shall be made in eleven monthly installments.

Dated: April 1, 2005.
Donald J. Bruce,
Acting Director, Superfund Division.

[FR Doc. 05-7309 Filed 4-11-05; 8:45 am]

BILLING CODE 6560-50-P